NUCLEAR REGULATORY COMMISSION

[Project 0741]

Notice of Receipt and Availability of Application for a Combined License Dominion Virginia Power—North Anna Unit 3

AGENCY: U.S. Nuclear Regulatory Commission.

ACTION: Notice of Receipt of Combined License Application.

FOR FURTHER INFORMATION CONTACT: Thomas Kevern, Senior Project Manager, ESBWR/ABWR Projects Branch 1, Division of New Reactor Licensing, Office of New Reactors, U.S. Nuclear Regulatory Commission, Washington, DC 20555-0001. Telephone: (301) 415-0224; fax: (301) 415-5199; e-mail: tak@nrc.gov.

SUPPLEMENTARY INFORMATION: On November 26, 2007, Dominion Virginia Power (Dominion, or the applicant) filed with the U.S. Nuclear Regulatory Commission (NRC, or the Commission) pursuant to section 103 of the Atomic Energy Act of 1954, as amended, and 10 CFR Part 52, Subpart C, an application for a combined license (COL) for an economic simplified boiling water reactor (ESBWR) to be located at the North Anna Power Station (NAPS) site in Louisa County, Virginia, and designated as North Anna Unit 3. The information submitted by the applicant includes certain administrative information such as financial qualifications submitted pursuant to 10 CFR 50.33, and an agreement to limit access to sensitive information submitted pursuant to 10 CFR 50.37.

Subsequent Federal Register notices will address the acceptability of the tendered COL application for docketing and provisions for participation of the public in the COL review process.

A copy of the application is available for public inspection at the Commission's Public Document Room (PDR), located at One White Flint North, 11555 Rockville Pike (first floor), Rockville, Maryland, and via the Agencywide Document Access and Management System (ADAMS) Public Electronic Reading Room on the Internet at the NRC Web site, http://www.nrc.gov/reading-rm/adams.html. The accession number for the application is ML073320913. Future publicly available documents related to the application will also be posted in ADAMS. Persons who do not have access to ADAMS, or who encounter problems in accessing the documents located in ADAMS, should contact the NRC Public Document Room staff by telephone at 1-800-397-4209 or 301-415-4737, or by e-mail to pdr@nrc.gov. The application is also available at http://www.nrc.gov/reactors/new-licensing/col.html.

Dated at Rockville, Maryland, this 6th day of December, 2007.
For the Nuclear Regulatory Commission.
Thomas A. Kevern,
Senior Project Manager, ESBWR/ABWR Projects Branch 1, Division of New Reactor Licensing, Office of New Reactors.

[FR Doc. E7-24089 Filed 12-11-07; 8:45 am]

BILLING CODE 7590-01-P